DEPARTMENT OF HEALTH AND HUMAN SERVICES

Centers for Disease Control and Prevention

Board of Scientific Counselors, National Center for Environmental Health/Agency for Toxic Substances and Disease Registry (BSC, NCEH/ATSDR)

AGENCY: Centers for Disease Control and Prevention (CDC), Department of Health and Human Services (HHS).

ACTION: Notice of meeting.

SUMMARY: In accordance with the Federal Advisory Committee Act, the CDC announces the following meeting for the Board of Scientific Counselors, National Center for Environmental Health/Agency for Toxic Substances and Disease Registry (BSC, NCEH/ATSDR). This meeting is open to the public, limited only by available seating. The meeting room accommodates approximately 60 people. The public is also welcome to listen to the meeting by calling 888-989-4501, passcode 9885805, limited by 100 lines. The deadline for notification of attendance is May 14, 2018. The public comment period is scheduled on June 5, 2018 from 2:30 p.m. until 2:45 p.m., EDT and June 6, 2018 from 10:10 a.m. until 10:25 a.m., EDT. Individuals wishing to make a comment during Public Comment period, please email your name, organization, and phone number by May 7, 2018 to Amanda Malasky at amalasky@cdc.gov.

DATES: The meeting will be held on June 5, 2018, 8:30 a.m. to 4:00 p.m., EDT and June 6, 2018, 8:30 a.m. to 11:30 a.m., EDT.

ADDRESSES: CDC, 4770 Buford Highway, CDC Building 106, Room 1B, Atlanta, GA 30341.

FOR FURTHER INFORMATION CONTACT: Shirley Little, Program Analyst, NCEH/ATSDR, CDC, 4770 Buford Hwy., Mail Stop F-45, Atlanta, GA 30341, telephone (770) 488-0577; email snl7@cdc.gov.

SUPPLEMENTARY INFORMATION:

Purpose: The Secretary, Department of Health and Human Services (HHS) and by delegation, the Director, CDC and Administrator, NCEH/ATSDR, are authorized under Section 301 (42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and wellbeing; and (3) train state and local personnel in health work. The BSC, NCEH/ATSDR provides advice and guidance to the Secretary, HHS; the Director, CDC and Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters to be Considered: The agenda will include discussions on Recovery Efforts to Address Environmental Health Impacts after the 2017 Hurricanes, NCEH/ATSDR Program Responses to BSC Guidance and Action Items, PFAS multi-site study, PEASE, Biomonitoring for PFAS in children, Use of Citizen Science for Assessment of Health Risks, Statistical Inferences in Environmental Epidemiology, and NCEH/ASTDR work with tribes/Tribal Programs. Agenda items are subject to change as priorities dictate.

The Director, Management Analysis and Services Office, has been delegated the authority to sign Federal Register notices pertaining to announcements of meetings and other committee management activities, for both the Centers for Disease Control and Prevention and the Agency for Toxic Substances and Disease Registry.

Elizabeth Millington,
Acting Director, Management Analysis and Services Office, Centers for Disease Control and Prevention.

[FR Doc. 2018-08367 Filed 4-20-18; 8:45 am]

BILLING CODE 4163-19-P